DEPARTMENT OF DEFENSE

Office of the Secretary

[Docket ID DoD-2013-OS-0061]

Proposed Collection; Comment Request

AGENCY: Office of the Under Secretary of Defense for Personnel and Readiness (OUSD(P&R)), Federal Voting Assistance Program, DoD.

ACTION: Notice.

In compliance with Section 3506(c)(2)(A) of the Paperwork Reduction Act of 1995, the Office of the Under Secretary of Defense for Personnel and Readiness announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by May 31, 2013.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Director, Federal Voting Assistance Program, ATTN: Kathleen McDonnell, 4800 Mark Center Drive, Mailbox 10, Alexandria, Virginia 22350-5000, or call 571-372-1168.

Title; Associated Form; and OMB Number: Federal Post Card Application (FPCA), Standard Form 76 (SF-76); OMB Control Number 0704-TBD.

Needs and Uses: The information collection requirement is necessary to fulfill the requirement of the Uniformed and Overseas Absentee Voting Act (UOCAVA), 46 U.S.C. 1973ff wherein the Secretary of Defense is to prescribe an official postcard form, containing an absentee voter registration application and an absentee ballot request application for use by the States.

Affected Public: Individuals or Households: Uniformed Services members, eligible family members, U.S. citizens residing outside the U.S.

Annual Burden Hours: 300,000.

Number of Respondents: 1,200,000.

Responses per Respondent: 1.

Average Burden per Response: 15 minutes.

Frequency: On occasion.

SUPPLEMENTARY INFORMATION:

Summary of Information Collection

Respondents are UOCAVA citizens who desire to apply for voter registration and/or request an absentee ballot from their state of residency. The information provided by these citizens is used by the states to determine if the citizen is a resident of a jurisdiction within that state, and therefore eligible to vote within that jurisdiction and to provide absentee ballots to these citizens for Federal elections held within each calendar year. This form is mandated by 42 U.S.C. 1973ff. The Department of Defense does not receive, collect nor maintain any data provided on the form by these citizens; this data is collected and maintained by the individual states. The burden in the collection of this data resides in the individual States. If the form is not provided, UOCAVA citizens may not be able to register to vote in their State of residency nor be able to request absentee ballots and thus may be disenfranchised from their right as a U.S. citizen to participate in the electoral process. The previous Federal Post Card Application is the edition dated 08-2011. The form has been updated for usability and consistency. The most significant changes on the form are as follows: Block 1 classification has been clarified to include activated National Guard members on State orders and U.S. citizens who have never resided in the United States. These individuals had previously been listed as U.S. citizens otherwise granted military/overseas voting rights. The overseas citizen selection previously described as “I am a U.S. citizen residing outside the U.S., and I do not intend to return” has been reworded for citizens who are unsure of their future plans or are hesitant to sign that they do not intend to return to the country. The intent-to-return language remains on the form due to the October 2008 National Association Secretaries of State (NASS) Survey of State Statues that shows the majority of States have intent as a prerequisite for obtaining a State ballot. Block 7 has been reworded back to the 2005 FPCA language of “my voting residence address” to ensure military voters with more than one potential U.S. address are not registering in the wrong jurisdiction. Block 8 has been reworded to “where to send my ballot” to ensure voters are using their mailing address and not their U.S. voting address. The Affirmation has been modified so that voters do not have to reaffirm information already found on the form. The signature block has been highlighted and the text previously found on the signature and date lines has been moved below it so local election officials can easily read signatures and dates. The Agency Disclosure Statement has been added to the instruction page of the form as per OMB guidance.

Dated: March 25, 2013.
Aaron Siegel,
Alternate OSD Federal Register Liaison Officer, Department of Defense.

[FR Doc. 2013-07485 Filed 3-29-13; 8:45 am]

BILLING CODE 5001-06-P